SECURITIES AND EXCHANGE COMMISSION

[File No. 500-1]

Makism3D Corp.; Order of Suspension of Trading

December 13, 2013.

It appears to the Securities and Exchange Commission that the public interest and the protection of investors require a suspension of trading in the securities of Makism3D Corp. (“Makism3D”) because of concerns regarding the accuracy and adequacy of information in the marketplace and potentially manipulative transactions in Makism3D's common stock. Makism3D is a Nevada corporation based in Cambridge, United Kingdom. It is quoted on OTCBB and OTC Link under the symbol MDDD.

The Commission is of the opinion that the public interest and the protection of investors require a suspension of trading in the securities of the above-listed company.

Therefore, it is ordered, pursuant to Section 12(k) of the Securities Exchange Act of 1934, that trading in the securities of the above-listed company is suspended for the period from 9:30 a.m. EST on December 13, 2013 through 11:59 p.m. EST on December 27, 2013.

By the Commission.
Elizabeth M. Murphy,
Secretary.

[FR Doc. 2013-30068 Filed 12-13-13; 11:15 am]

BILLING CODE 8011-01-P